DEPARTMENT OF VETERANS AFFAIRS

38 CFR Part 21

RIN 2900-AM67

Increase in Rates Payable Under the Survivors' and Dependents' Educational Assistance Program and Other Miscellaneous Issues

AGENCY: Department of Veterans Affairs.

ACTION: Final rule; correction.

SUMMARY: The Department of Veterans Affairs (VA) published a document in the Federal Register of December 30, 2008, amending its regulations to reflect increases effective for fiscal years 2005, 2006, 2007, 2008, and 2009. The document contained an error in an amendatory instruction. We inadvertently omitted instruction to the editor to add two new paragraphs to the section. This document corrects that error.

DATES: Effective Date: This correction is effective January 21, 2009.

FOR FURTHER INFORMATION CONTACT: Brandye R. Terrell, Regulation Development Team Leader (225C), Education Service, Veterans Benefits Administration, Department of Veterans Affairs, 810 Vermont Ave., NW., Washington, DC 20420, (202) 461-9822.

SUPPLEMENTARY INFORMATION: The VA published a document in the Federal Register on December 30, 2008, (73 FR 79645) amending its regulations to reflect increases effective for fiscal years 2005, 2006, 2007, 2008, and 2009, respectively. In FR Doc. E8-31033, published on December 30, 2008, the addition of paragraphs (a)(5) and (a)(6) to § 21.3333 was inadvertently omitted from amendatory instruction 7a. This document corrects that error.

In rule FR Doc. E8-31033 published on December 30, 2008 (73 FR 79645), make the following correction: On page 79651, in the second column, amendatory instruction 7a. should read as follows:

a. Revising paragraphs (a)(1), (a)(2), and (a)(3), and adding paragraphs (a)(4), (a)(5) and (a)(6).

Approved: January 13, 2009.
Gloria P. Armstrong,
Federal Register Liaison Officer.

[FR Doc. E9-1040 Filed 1-16-09; 8:45 am]

BILLING CODE 8320-01-P